DEPARTMENT OF THE INTERIOR

National Park Service

[NPS-WASO-NRNHL-DTS#-28888; PPWOCRADI0, PCU00RP14.R50000]

National Register of Historic Places; Notification of Pending Nominations and Related Actions

AGENCY: National Park Service, Interior.

ACTION: Notice.

SUMMARY: The National Park Service is soliciting comments on the significance of properties nominated before September 7, 2019, for listing or related actions in the National Register of Historic Places.

DATES: Comments should be submitted by October 7, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September 7, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Sacramento County

Barr, George & Mabel, House, 2672 Montgomery Way, Sacramento, SG100004528

Hathaway, Anne, Cottage, 2640 Montgomery, Sacramento, SG100004529

San Diego County

Encinitas Boathouses, 726 & 732 3rd St., Encinitas, SG100004530

San Francisco County

Glen Park BART Station, 2901 Diamond St., San Francisco, SG100004531

DELAWARE

New Castle County

Parker's Dairy Palace, 2 Jay Dr., New Castle, SG100004513

FLORIDA

Duval County

Unitarian Universalist Church of Jacksonville, 7405 Arlington Expressway, Jacksonville, SG100004516

Jackson County

Bellamy Bridge, 4057 Bellamy Bridge Heritage Trail, Marianna, SG100004517

Lake County

Ferran, Edgar L., House, 310 E. Orange Ave., Eustis, SG100004518

Pinellas County

Abercrombie Site Complex, (Archaeological Resources of the Lower Pinellas Peninsula MPS), Park St. N and 38th Ave. N, St. Petersburg, MP100004520

Maximo Beach Site

(Archaeological Resources of the Lower Pinellas Peninsula MPS), Sunshine Skyway Ln. S and Pinellas Point Dr. S, St. Petersburg, MP100004521

Princess Mound Site

(Archaeological Resources of the Lower Pinellas Peninsula MPS), Mound Place S and Bethel Way S, St. Petersburg, MP100004522

LOUISIANA

Lafayette Parish

Downtown Lafayette Civic Center, 705 Jefferson St., 731 Jefferson St., 735 Jefferson St., 124 E Main St., Lafayette, SG100004510

Orleans Parish

1621 Lafitte Avenue, (Railroad-Related Industrial and Commercial Buildings on the Lafitte Greenway Corridor, 1900-1969 MPS), 1621 Lafitte Ave., New Orleans, MP100004514

1601 Lafitte Avenue, (Railroad-Related Industrial and Commercial Buildings on the Lafitte Greenway Corridor, 1900-1969 MPS), 1601 Lafitte Ave., New Orleans, MP100004515

RHODE ISLAND

Providence County

Cumberland Town Hall Historic District, 45 Broad St. and 16 Mill St., Cumberland, SG100004532

SOUTH CAROLINA

Horry County

Myrtle Beach Downtown Historic District, Portions of Main St., 8th Ave. N, 9th Ave. N, Kings Hwy., Broadway St., N Oak St., Myrtle Beach, SG100004533

WISCONSIN

Outagamie County

Appleton Post-Crescent Building, 306 W Washington St., Appleton, SG100004524

Waukesha County

Muskego State Graded School, S75 W17476 Janesville Rd., Muskego, SG100004527

Additional documentation has been received for the following resource:

FLORIDA

Pinellas County

Jungle Prada Site, Address Restricted, St. Petersburg, AD03000007

Nomination submitted by Federal Preservation Officer: The State Historic Preservation Officer reviewed the following nomination and responded to the Federal Preservation Officer within 45 days of receipt of the nomination and supports listing the property in the National Register of Historic Places.

CALIFORNIA

Santa Clara County

Veterans Affairs (VA) Hospital Site, 3801 Miranda Ave., Palo Alto, SG100004526

Authority: Section 60.13 of 36 CFR part 60.

Dated: September 11, 2019.
Julie H. Ernstein,
Supervisory Archeologist, National Register of Historic Places/National Historic Landmarks Program.

[FR Doc. 2019-20375 Filed 9-19-19; 8:45 am]

BILLING CODE 4312-52-P